DEPARTMENT OF THE INTERIOR

Office of Surface Mining Reclamation and Enforcement

30 CFR Part 918

[SATS No. LA-023-FOR; Docket ID: OSM-2010-0005]

Louisiana Regulatory Program/Abandoned Mine Land Reclamation Plan

AGENCY: Office of Surface Mining Reclamation and Enforcement, Interior.

ACTION: Proposed rule; public comment period and opportunity for public hearing on proposed amendment.

SUMMARY: We, the Office of Surface Mining Reclamation and Enforcement (OSM), are announcing receipt of a proposed amendment to the Louisiana regulatory program (Louisiana program) and the Louisiana abandoned mine land reclamation plan (Louisiana plan) under the Surface Mining Control and Reclamation Act of 1977 (SMCRA or the Act). The proposed amendment consists of revisions, additions, and deletions of regulations pertaining to definitions; lands eligible for remining; general provisions for review of permit application information and entry of information into AVS; review of applicant, operator, and ownership and control information; review of permit history; review of compliance history; permit eligibility determination; unanticipated events or conditions at remining sites; eligibility for provisionally issued permits; written findings for permit application approval; initial review and finding requirements for improvidently issued permits; suspension or rescission requirements for improvidently issued permits; who may challenge ownership or control listings and findings; how to challenge an ownership or control listing or finding; burden of proof for ownership or control challenges; written agency decision on challenges to ownership or control listings or findings; post-permit issuance requirements for regulatory authorities and other actions based on ownership, control, and violation information; post-permit issuance information requirements for permittees; transfer, assignment, or sale of permit rights; certifying and updating existing permit application information; providing applicant and operator information; providing permit history information; providing violation information; backfilling and grading: previously mined areas; and cessation orders; and contractor eligibility. The amendment is intended to revise the Louisiana program to be no less effective than the corresponding Federal regulations and the Louisiana plan to be consistent with the Federal regulations.

This document gives the times and locations that the Louisiana program, Louisiana plan, and this proposed amendment are available for your inspection, the comment period during which you may submit written comments on the amendment, and the procedures that we will follow for the public hearing, if one is requested.

DATES: We will accept written comments on this amendment until 4 p.m., c.d.t., November 1, 2010. If requested, we will hold a public hearing on the amendment on October 25, 2010. We will accept requests to speak at a hearing until 4 p.m., c.d.t. on October 15, 2010.

ADDRESSES: You may submit comments, identified by SATS No. LA-023-FOR, by any of the following methods:

• E-mail: swilson@osmre.gov. Include “SATS No. LA-023-FOR” in the subject line of the message.

• Mail/Hand Delivery: Sherry Wilson, Director, Birmingham Field Office, Office of Surface Mining Reclamation and Enforcement, 135 Gemini Circle, Suite 215, Homewood, Alabama 35209.

• Fax: (205) 290-7280.

• Federal eRulemaking Portal: http://www.regulations.gov. Follow the instructions for submitting comments.

Instructions: All submissions received must include the agency name and docket number for this rulemaking. For detailed instructions on submitting comments and additional information on the rulemaking process, see the “Public Comment Procedures” heading of the SUPPLEMENTARY INFORMATION section of this document.

Docket: For access to the docket to review copies of the Louisiana program, Louisiana plan, this amendment, a listing of any scheduled public hearings, and all written comments received in response to this document, you must go to the address listed below during normal business hours, Monday through Friday, excluding holidays. You may receive one free copy of the amendment by contacting OSM's Birmingham Field Office or going to http://www.regulations.gov.

Sherry Wilson, Director, Birmingham Field Office, Office of Surface Mining Reclamation and Enforcement, 135 Gemini Circle, Suite 215, Homewood, Alabama 35209, Telephone: (205) 290-7282, E-mail: swilson@osmre.gov.

In addition, you may review a copy of the amendment during regular business hours at the following location: Inspection and Mining Division, Louisiana Department of Natural Resources, Office of Conservation, 617 North 3rd Street, 8th Floor, Baton Rouge, Louisiana 70802, Telephone: (225) 342-5515.

FOR FURTHER INFORMATION CONTACT: Sherry Wilson, Director, Birmingham Field Office, Telephone: (205) 290-7282. E-mail: swilson@osmre.gov.

SUPPLEMENTARY INFORMATION:

I. Background on the Louisiana Program

II. Description of the Proposed Amendment

III. Public Comment Procedures

IV. Procedural Determinations

I. Background on the Louisiana Program

Section 503(a) of the Act permits a State to assume primacy for the regulation of surface coal mining and reclamation operations on non-Federal and non-Indian lands within its borders by demonstrating that its program includes, among other things, “a State law which provides for the regulation of surface coal mining and reclamation operations in accordance with the requirements of this Act * * *; and rules and regulations consistent with regulations issued by the Secretary pursuant to this Act.” See 30 U.S.C. 1253(a)(1) and (7). On the basis of these criteria, the Secretary of the Interior conditionally approved the Louisiana program effective October 10, 1980. You can find background information on the Louisiana program, including the Secretary's findings, the disposition of comments, and the conditions of approval of the Louisiana program in the October 10, 1980, Federal Register (45 FR 67340). You can also find later actions concerning the Louisiana program and program amendments at 30 CFR 918.10, 918.15, and 918.16.

The Abandoned Mine Land Reclamation Program was established by Title IV of the Act in response to concerns over extensive environmental damage caused by past coal mining activities. The program is funded by a reclamation fee collected on each ton of coal that is produced. The money collected is used to finance the reclamation of abandoned coal mines and for other authorized activities. Section 405 of the Act allows States and Indian Tribes to assume exclusive responsibility for reclamation activity within the State or on Indian lands if they develop and submit to the Secretary of the Interior for approval, a program (often referred to as a plan) for the reclamation of abandoned coal mines. On the basis of these criteria, the Secretary of the Interior approved the Louisiana plan on November 10, 1986. You can find background information on the Louisiana plan, including the Secretary's findings, the disposition of comments, and the approval of the plan in the November 10, 1986, Federal Register (51 FR 40795). You can find later actions concerning the Louisiana plan and amendments to the plan at 30 CFR 918.25.

II. Description of the Proposed Amendment

By letter dated March 4, 2010 (Administrative Record No. LA-369), Louisiana submitted a proposed amendment to its program and plan pursuant to SMCRA. Louisiana submitted the proposed amendment in response to a September 30, 2009, letter (Administrative Record No. LA-368) that OSM sent to Louisiana in accordance with 30 CFR 732.17(c) and included a section related to its plan on its own initiative. Below is a summary of the changes proposed by Louisiana. The full text of the program and plan amendment is available for you to read at the locations listed above under ADDRESSES.

A. Section 105. Definitions

1. Louisiana proposes to add the definition for Applicant/Violator System or AVS.

2. Louisiana proposes to add the definition for Control or controller.

3. Louisiana proposes to delete the definition for Knowingly.

4. Louisiana proposes to add the definition for Knowing or knowingly.

5. Louisiana proposes to delete the definition for Owned or Controlled and Owns or Controls.

6. Louisiana proposes to add the definition for Own, owner, or ownership.

7. Louisiana proposes to revise the definition for Transfer, Assignment or Sale of Rights.

8. Louisiana proposes to add the definition for Violation.

9. Louisiana proposes to add the definition for Willful or willfully.

10. Louisiana proposes to delete the definition for Willfully.

11. Louisiana proposes to delete the definition for Willful Violation.

B. Section 2913. Lands Eligible for Remining

Louisiana proposes to add this section to closely follow 30 CFR 785.25.

C. Section 3113. Review of Permit Application

Louisiana proposes to revise this section to closely follow 30 CFR 773.8-773.13 by:

(1) Replacing paragraphs C, D, E, and F with new paragraphs C, D, E, and F, and by

(2) adding paragraphs G and H.

D. Section 3114. Eligibility for Provisionally Issued Permits

Louisiana proposes to add new paragraphs A, B, and C to closely follow 30 CFR 773.14.

E. Section 3115. Criteria for Permit Approval or Denial

Louisiana proposes to add paragraphs A. 17, A. 18, and A. 19 to closely follow 30 CFR 773.15.

F. Section 3127. Improvidently Issued Permits: General Procedures

Louisiana proposes to replace paragraphs A, B, and C, with new paragraphs A, B, C, D, and E to closely follow 30 CFR 733.21.

G. Section 3129. Improvidently Issued Permits: Rescission Procedures

Louisiana proposes to revise this section to closely follow 30 CFR 773.23 by:

(1) Revising the title by adding “Suspension or,” and by

(2) revising paragraph A via several editorial changes.

H. Section 3131. Challenges to Ownership or Control Listings and Findings

Louisiana proposes to add this section to closely follow 30 CFR 773.25.

I. Section 3133. Challenging an Ownership or Control Listing or Finding

Louisiana proposes to add this section to closely follow 30 CFR 773.26.

J. Section 3135. Burden of Proof for Ownership or Control Challenges

Louisiana proposes to add this section to closely follow 30 CFR 773.27.

K. Section 3137. Written Decision on Challenges to Ownership or Control Listings or Findings

Louisiana proposes to add this section to closely follow 30 CFR 773.28.

L. Chapter 35. Permit Reviews and Renewals; Transfers, Sale and Assignment of Rights Granted under Permits

Louisiana proposes to revise this chapter title by adding additional language to closely follow 30 CFR 774 title.

M. Section 3521. Post Permit Issuance Requirements for Regulatory Authorities and Other Actions Based on Ownership, Control, and Violation Information

Louisiana proposes to add this section to closely follow 30 CFR 774.11.

N. Section 3523. Post-Permit Issuance Information Requirements for Permittees

Louisiana proposes to add this section to closely follow 30 CFR 774.12.

O. Section 3517. Transfer, Assignment or Sale of Permit Rights: Obtaining Approval

Louisiana proposes to amend paragraph C.1 to closely follow 30 CFR 774.17.

P. Section 2304. Certifying and Updating Existing Permit Application Information

Louisiana proposes to add this section to closely follow 30 CFR 778.9.

Q. Section 2305. Identification of Interests

Louisiana proposes to amend paragraphs A.1, A.2, A.3, and A.4 to closely follow 30 CFR 778.11.

R. Section 2307. Compliance Information

Louisiana proposes to amend paragraphs A.1 and A.3 to closely follow 30 CFR 778.14.

S. Section 5414. Backfilling and Grading: Previously Mined Areas

Louisiana proposed to add this section to closely follow 30 CFR 816.106.

T. Section 6501. Cessation Orders

Louisiana proposes to amend paragraph G to closely follow 30 CFR 843.11.

U. Section 8509. Contractor Eligibility

Louisiana proposed to add this section to closely follow 30 CFR 874.16.

III. Public Comment Procedures

Under the provisions of 30 CFR 732.17(h), we are seeking your comments on whether the amendment satisfies the applicable program approval criteria of 30 CFR 732.15. If we approve the amendment, it will become part of the State program.

Under the provisions of 30 CFR 884.15(a), we are requesting comments on whether the amendment satisfies the applicable State reclamation plan approval criteria of 30 CFR 884.14. If we approve the amendment, it will become part of the Louisiana plan.

Electronic or Written Comments

If you submit written comments, they should be specific, confined to issues pertinent to the proposed regulations, and explain the reason for any recommended change(s). We appreciate any and all comments, but those most useful and likely to influence decisions on the final regulations will be those that either involve personal experience or include citations to and analyses of SMCRA, its legislative history, its implementing regulations, case law, other pertinent State or Federal laws or regulations, technical literature, or other relevant publications.

We cannot ensure that comments received after the close of the comment period (see DATES) or sent to an address other than those listed (see ADDRESSES) will be included in the docket for this rulemaking and considered.

Public Availability of Comments

Before including your address, phone number, e-mail address, or other personal identifying information in your comment, you should be aware that your entire comment—including your personal identifying information—may be made publicly available at any time. While you can ask us in your comment to withhold your personal identifying information from public review, we cannot guarantee that we will be able to do so.

Public Hearing

If you wish to speak at the public hearing, contact the person listed under FOR FURTHER INFORMATION CONTACT by 4 p.m., c.d.t. on October 15, 2010. If you are disabled and need reasonable accommodations to attend a public hearing, contact the person listed under FOR FURTHER INFORMATION CONTACT. We will arrange the location and time of the hearing with those persons requesting the hearing. If no one requests an opportunity to speak, we will not hold a hearing.

To assist the transcriber and ensure an accurate record, we request, if possible, that each person who speaks at the public hearing provide us with a written copy of his or her comments. The public hearing will continue on the specified date until everyone scheduled to speak has been given an opportunity to be heard. If you are in the audience and have not been scheduled to speak and wish to do so, you will be allowed to speak after those who have been scheduled. We will end the hearing after everyone scheduled to speak and others present in the audience who wish to speak, have been heard.

Public Meeting

If only one person requests an opportunity to speak, we may hold a public meeting rather than a public hearing. If you wish to meet with us to discuss the amendment, please request a meeting by contacting the person listed under FOR FURTHER INFORMATION CONTACT. All such meetings are open to the public and, if possible, we will post notices of meetings at the locations listed under ADDRESSES. We will make a written summary of each meeting a part of the administrative record.

IV. Procedural Determinations

Executive Order 12866—Regulatory Planning and Review

This rule is exempted from review by the Office of Management and Budget (OMB) under Executive Order 12866.

Other Laws and Executive Orders Affecting Rulemaking

When a State submits a program amendment to OSM for review, our regulations at 30 CFR 732.17(h) require us to publish a notice in the Federal Register indicating receipt of the proposed amendment, its text or a summary of its terms, and an opportunity for public comment. We conclude our review of the proposed amendment after the close of the public comment period and determine whether the amendment should be approved, approved in part, or not approved. At that time, we will also make the determinations and certifications required by the various laws and executive orders governing the rulemaking process and include them in the final rule.

List of Subjects in 30 CFR Part 918

Intergovernmental relations, Surface mining, Underground mining.

Dated: April 7, 2010.
William Joseph,
Acting Regional Director, Mid-Continent Region.

[FR Doc. 2010-24601 Filed 9-29-10; 8:45 am]

BILLING CODE 4310-05-P